DEPARTMENT OF THE INTERIOR

Fish and Wildlife Service

50 CFR Part 17

[Docket No. FWS-HQ-ES-2021-0034; 4500030113]

RIN 1018-BF82

Endangered and Threatened Wildlife and Plants; Removing Textual Descriptions of Critical Habitat Boundaries for Plants

AGENCY: Fish and Wildlife Service, Interior.

ACTION: Final rule; technical amendment.

SUMMARY: We, the U.S. Fish and Wildlife Service (Service), are removing the textual descriptions of critical habitat boundaries from those designations for plants for which the maps have been determined to be sufficient to stand as the official delineation of critical habitat. For these entries, the boundaries of critical habitat as mapped or otherwise described will be the official delineation of the designation. The coordinates and/or plot points that we are removing from the Code of Federal Regulations will be available to the public at the lead field office of the Service responsible for the designation and online at the Federal eRulemaking Portal. This action does not increase, decrease, or otherwise change the boundaries of any critical habitat designation. We are taking this action in accordance with our May 1, 2012, revision of the regulations related to publishing textual descriptions of critical habitat boundaries in the Code of Federal Regulations and as part of our response to Executive Order 13563 (Jan. 18, 2011) directing Federal agencies to review their existing regulations and then to modify or streamline them in accordance with what they learned.

DATES: This rule is effective August 23, 2021.

ADDRESSES: This final rule is available online at the Federal eRulemaking Portal at http://www.regulations.gov.

FOR FURTHER INFORMATION CONTACT: Carey Galst, U.S. Fish and Wildlife Service, MS: ES, 5275 Leesburg Pike, Falls Church, VA 22041-3803; telephone 703-358-1954. If you use a telecommunications device for the deaf (TDD), call the Federal Relay Service at 800-877-8339.

SUPPLEMENTARY INFORMATION:

Executive Summary

Why we need to publish a rule amendment. We have reviewed our critical habitat designations published in the Code of Federal Regulations for plants. Based on that review, we have found that we can provide more cost-efficient, helpful, and streamlined critical habitat designations by removing the often-lengthy textual descriptions of critical habitat boundaries from those designations for which the maps have been determined to be sufficient to stand as the official delineation of critical habitat. This rule does not increase, decrease, or in any other way alter the critical habitat designations from which we are removing the textual descriptions of boundaries. A change to the Code of Federal Regulations can only be completed by issuing a final rule.

The basis for our action. Executive Order 13563 directs Federal agencies to review their existing regulations and then to modify or streamline them in accordance with what they learned. This action results from our review of our critical habitat regulations. This change will save taxpayer resources and make the critical habitat designations published in the Code of Federal Regulations more user-friendly.

Background

On May 1, 2012, we published a final rule (77 FR 25611) revising our regulations related to publishing textual descriptions of proposed and final critical habitat boundaries in the Federal Register for codification in the Code of Federal Regulations (CFR). In the interest of making the process of designating critical habitat more user-friendly for affected parties and the public as a whole, as well as more efficient and cost effective, we maintained the publication of maps of proposed and final critical habitat designations but made optional the inclusion of any textual description of the boundaries of the designation in the Federal Register for codification in the CFR. The boundaries of critical habitat as mapped or otherwise described in the Regulation Promulgation section of a rulemaking that is published in the Federal Register is the official delineation of the critical habitat designation. This approach began with critical habitat designations published after the effective date of the final rule (May 31, 2012).

Specifically, for critical habitat rules published after May 31, 2012, the map(s), as clarified or refined by any textual language within the rule, establish the legal boundaries of a critical habitat. Each critical habitat area is shown on a map, with more-detailed information discussed in the preamble or the rulemaking documents published in the Federal Register. The map published in the CFR is generated from the coordinates and/or plot points corresponding to the location of the boundaries. These coordinates and/or plot points are included in the administrative record for the designation and are available to the public online and at the Service field office responsible for the designation. In addition, if the Service concludes that additional tools or supporting information are appropriate and would help the public understand the official boundary map, we make the additional tools and supporting information available on our internet site and at the Service field office responsible for the critical habitat designation.

The preamble to the May 1, 2012, final rule (77 FR 25611) explained how the Service would handle boundaries for critical habitat that had already been designated before May 31, 2012; the rule states that “for existing critical habitat designations, we also intend to remove the textual descriptions of final critical habitat boundaries set forth in the CFR in order to save the annual reprinting cost, but we must do so in separate rulemakings to ensure that removing the textual descriptions does not change the existing boundaries of those designations” (77 FR 25618). We have now begun applying this approach to critical habitat designations promulgated prior to May 31, 2012. This rule is the third, and final, in a series of rules based on our evaluation of the map(s) in each critical habitat designation at 50 CFR 17.95, 17.96, and 17.99 to remove the textual descriptions without changing the existing boundaries of those designations if we determine the map(s) will be sufficient to inform the public of the boundaries of the designations and can therefore stand as the official delineation of the designation.

On October 27, 2017, we published a final rule (82 FR 49751) removing textual descriptions of critical habitat boundaries from those designations for plants on the Hawaiian Islands of Kauai, Niihau, and Hawaii at 50 CFR 17.99. That final rule established that the map, as clarified or refined by any textual language within the rule, constitutes the definition of the boundaries of the critical habitat for the applicable designation. It did not alter the locations of any boundaries.

On April 27, 2018, we published a final rule (83 FR 18698) removing textual descriptions of critical habitat boundaries from those designations for mammals, birds, amphibians, fishes, clams, snails, arachnids, crustaceans, and insects for which the maps were determined to be sufficient to stand as the official delineation of critical habitat at 50 CFR 17.95. That final rule established that the map, as clarified or refined by any textual language within the rule, constitutes the definition of the boundaries of the critical habitat for the applicable designation. For critical habitat designations at 50 CFR 17.95(a)-(b) and (d)-(i) with maps that did not meet our sufficiency criteria, we added a statement (“The map provided is for informational purposes only.”) to clarify that the textual descriptions, not the maps, in those entries are the official delineation of critical habitat. The rule did not alter the locations of any boundaries.

This revision to 50 CFR 17.96 is the third, and final, rule in a series of rules to remove the textual descriptions of critical habitat boundaries from those designations for which the maps have been determined to be sufficient to stand as the official delineation of critical habitat.

This Rule

For 50 CFR 17.96, we evaluated the map(s) in each entry to determine whether or not the map(s) can stand as the official delineation of the designation. All of the entries in 50 CFR 17.96 fall within 17.96(a) (critical habitat for flowering plants). In each entry we looked for a combination of certain map elements—including, but not limited to, the name of the species (or of the grouping of species), the unit number and/or name, the names of counties and/or States shown, a clear map key, and an appropriate map scale—to determine whether or not the maps are sufficient to serve as the official delineation of the designation.

In this rule, we are removing the textual descriptions of critical habitat boundaries from those entries at 50 CFR 17.96(a) that have maps sufficient to stand as the official delineation of the designation. In those entries, we are removing the word “Note:” (or “NOTE:” or “Note:”) if it precedes a map that will now stand as the official delineation of the critical habitat designation. For critical habitat designations at 50 CFR 17.96(a) with maps that do not meet our sufficiency criteria, we are adding a statement (“[The] map provided is for informational purposes only.”) to clarify that the textual descriptions, not the maps, in those entries are the official delineation of critical habitat.

For certain designations, we are retaining the textual descriptions of the boundaries of either the entire designated critical habitat unit or of the areas excluded from the critical habitat designation to clarify or refine the provided map, in accordance with 50 CFR 17.94. We determined that for some designations, providing textual descriptions of the boundaries enhanced the clarity of the designation, so we have opted to retain those textual descriptions. In addition, we found that in some instances retaining the textual description of an excluded area is necessary because the relevant map(s) do not adequately show the excluded area(s), which can be very small within a much larger critical habitat unit. Retaining those textual descriptions ensures that the public has accurate and complete information regarding critical habitat units and areas excluded from critical habitat designation.

This rule does not increase, decrease, or in any other way alter the critical habitat designations from which we are removing the textual descriptions of boundaries. This administrative action will save taxpayer resources. The Service spent approximately $75,500 to reprint the critical habitat designations at 50 CFR 17.96 for the most-recent print edition of the CFR. Based on a review of the print edition of the CFR, we estimate that this rule will remove approximately 179 pages of the relevant CFR volume, amounting to a savings of approximately $14,320 per year in printing costs for the Service. Over many years, eliminating the need to reprint Universal Transverse Mercator (UTM) coordinate pairs and other textual descriptions at 50 CFR 17.96 will result in a considerable cumulative cost savings for the Service and the public as a whole. The detailed UTM coordinates or other textual descriptions we are removing in this rule will continue to be available online at the Federal eRulemaking Portal (see ADDRESSES) and at the lead Service field office responsible for the designation to assist the public in understanding the official boundary.

We note that the Service never maintained that requiring detailed textual descriptions was legally necessary. Instead, the first critical habitat regulations required only that critical habitat designations be “accompanied by maps and/or geographical descriptions” (43 FR 870 876 (Jan. 4, 1978)). Although the Service subsequently added the requirement that critical habitat designations include textual descriptions describing the specific boundary limits of the critical habitat, there is nothing in the preamble to that rule indicating that the Service did so because the Act required it. Rather, it was in response to several commenters, who had opined that the proposed rule was not sufficiently clear in setting out the method by which critical habitat boundaries would be described (45 FR 13009, 13015 (Feb. 27, 1980)).

Removing these unnecessary textual descriptions will significantly reduce the length of some critical habitat designations, making each designation easier to locate in the CFR; will not weaken the effectiveness of the Act; and will not undermine the public's ability to identify the boundaries of critical habitat designations.

The information printed in the CFR is the legally binding delineation of critical habitat. If there is ambiguity due to the scale of the map such that additional regulatory text is needed to ensure that the public has adequate notice of the boundaries, we provide additional regulation text. The only change to the CFR that we are making with this action is removing the detailed textual description of the boundaries of the specific areas designated as critical habitat (e.g., latitude-longitude and UTM coordinates). We still generate those data and make them available at http://www.regulations.gov and at the lead field office of the Service responsible for the critical habitat designation. Neither the critical habitat designation nor the underlying data on which it is based can be changed without undergoing a further rulemaking.

As stated earlier, the actions we are taking in this rule do not increase, decrease, or otherwise alter the critical habitat boundaries or areas. For 50 CFR 17.96(a), we are merely removing the reference points (e.g., UTM or latitude-longitude coordinates) of the textual descriptions from existing final critical habitat designations, and we are doing so only where we have determined that the existing maps are sufficient to inform the public of the boundaries of the designations and can therefore stand as the official delineation of critical habitat. However, we will continue to provide the reference points of the textual descriptions at http://www.regulations.gov and at the lead field office of the Service responsible for the critical habitat designation.

The actions we are taking in this rule require us to also revise 50 CFR 17.94(b), to set forth an explanation of which critical habitat designations have maps that stand as the official delineation of critical habitat and which do not.

We are publishing this final rule without a prior proposal because we find that there is good cause for doing so pursuant to 5 U.S.C. 553(b)(3)(B). The “good cause” exception applies when an agency finds “that notice and public procedure thereon are impracticable, unnecessary, or contrary to the public interest.” Publication of a proposed rule for this action is unnecessary because this is an administrative action that does not increase, decrease, or otherwise change critical habitat boundaries or areas. Therefore, this action will not affect any legal rights. Rather, it will merely reduce the publication length of some rules designating critical habitat, which will save taxpayer resources and make each designation easier to locate in the CFR. We find that it is in the best interest of the public to promulgate these administrative and technical changes to 50 CFR 17.96 without undergoing procedures that are unnecessary.

Required Determinations

Regulatory Planning and Review—Executive Orders 12866 and 13563

Executive Order 12866 provides that the Office of Information and Regulatory Affairs (OIRA) will review all significant rules. OIRA has determined that this rule is not significant. Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act (5 U.S.C. 601 et seq.)

Under the Regulatory Flexibility Act (RFA), as amended by the Small Business Regulatory Enforcement Fairness Act of 1996 (SBREFA), 5 U.S.C. 601 et seq., whenever an agency is required to publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. The SBREFA amended the RFA to require Federal agencies to provide a statement of the factual basis for certifying that the rule will not have a significant economic impact on a substantial number of small entities.

According to the Small Business Administration, small entities include small organizations such as independent nonprofit organizations; small governmental jurisdictions, including school boards and city and town governments that serve fewer than 50,000 residents; and small businesses (13 CFR 121.201). Small businesses include such businesses as manufacturing and mining concerns with fewer than 500 employees, wholesale trade entities with fewer than 100 employees, and retail and service businesses with less than $5 million in annual sales. In general, the term “significant economic impact” is meant to apply to a typical small business firm's business operations.

This rule will not have a significant economic impact on a substantial number of small entities as defined under the RFA. This rule is an administrative action to remove the textual descriptions from critical habitat designations at 50 CFR 17.96(a) that have maps sufficient to stand as the official delineation of critical habitat. This action does not increase, decrease, or in any other way alter the areas or boundaries of the critical habitat designations from which we are removing the textual descriptions of boundaries.

This action will save taxpayer resources. The Service spent approximately $75,500 to reprint the critical habitat designations at 50 CFR 17.96 for the most-recent print edition of the CFR. Based on a review of the print edition of the CFR, we estimate that this rule will remove approximately 179 pages of the relevant CFR volume, amounting to a savings of approximately $14,320 per year in printing costs for the Service. While over many years, eliminating the need to reprint Universal Transverse Mercator (UTM) coordinate pairs and other textual descriptions at 50 CFR 17.96 will result in a considerable cumulative cost savings to the Service and the public as a whole, this rule will result in only a small annual savings to the Service and the public.

Therefore, for the reasons above, we certify that this rule will not have a significant economic impact on a substantial number of small entities.

Unfunded Mandates Reform Act (2 U.S.C. 1501 et seq.)

In accordance with the Unfunded Mandates Reform Act (2 U.S.C. 1501 et seq.), the Services make the following findings:

a. This rule will not produce a Federal mandate. In general, a Federal mandate is a provision in legislation, statute, or regulation that would impose an enforceable duty upon State, local, or Tribal governments, or the private sector and includes both “Federal intergovernmental mandates” and “Federal private sector mandates.” These terms are defined in 2 U.S.C. 658(5)-(7). “Federal intergovernmental mandate” includes a regulation that “would impose an enforceable duty upon State, local, or tribal governments” with two exceptions: (1) “A condition of Federal assistance” or (2) “a duty arising from participation in a voluntary Federal program,” unless the regulation “relates to a then-existing Federal program under which $500,000,000 or more is provided annually to State, local, and tribal governments under entitlement authority”; the provision would either “increase the stringency of conditions of assistance” or “place caps upon, or otherwise decrease, the Federal Government's responsibility to provide funding”; and the State, local, or Tribal governments “lack authority . . . to amend their financial or programmatic responsibilities to continue providing required services.” At the time of enactment, these entitlement programs were: Medicaid; AFDC work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance or (ii) a duty arising from participation in a voluntary Federal program.” This rule does not produce a Federal mandate under either of these definitions.

b. This rule will not significantly or uniquely affect small governments, because the revisions to the regulations in this rule should make our critical habitat designations more user-friendly and will make the process more cost-effective for the Service and the public as a whole. As such, we do not believe that a Small Government Agency Plan is required.

Takings—Executive Order 12630

In accordance with Executive Order 12630 (“Government Actions and Interference with Constitutionally Protected Private Property Rights”), we have evaluated this rule, and we have determined that this rule does not pose significant takings implications. The revisions to the regulations set forth in this rule do not involve individual property rights.

Federalism—Executive Order 13132

In accordance with Executive Order 13132 (Federalism), the rule does not have significant Federalism effects. A federalism summary impact statement is not required. The revisions to the regulations addressed in this rule are intended to promote the usability of the regulations and make the process of designating critical habitat more cost-effective, and thus should not significantly affect or burden the authority of the States to govern themselves.

Civil Justice Reform—Executive Order 12988

In accordance with Executive Order 12988 (Civil Justice Reform), this rule follows the Civil Justice Reform principles for regulations that do not unduly burden the Federal judicial system, by meeting the requirements of sections 3(a) and 3(b) of the Executive Order. The revisions to the regulations addressed in this rule should not significantly affect or burden the judicial system.

Paperwork Reduction Act of 1995

This rule does not contain any new collections of information that require approval by the Office of Management and Budget (OMB) under the Paperwork Reduction Act (44 U.S.C. 3501 et seq.). An agency may not conduct or sponsor, and a person is not required to respond to, a collection of information unless it displays a currently valid OMB control number.

National Environmental Policy Act (NEPA)

We analyzed this rule in accordance with the criteria of the National Environmental Policy Act of 1969 (NEPA) (42 U.S.C. 4321 et seq.), 43 CFR part 46, and 516 Departmental Manual (DM) 2 and 8.

A categorical exclusion from NEPA documentation applies to policies, directives, regulations, and guidelines that are “of an administrative, financial, legal, technical, or procedural nature” (43 CFR 46.210(i)). This rule falls within this categorical exclusion because it is administrative and technical in nature—it affects only the format in which the critical habitat boundaries are delineated in the regulations. However, even if an individual Federal action falls within a categorical exclusion, the Service must still prepare environmental documents pursuant to NEPA if one of the 12 exceptions listed in 43 CFR 46.215 applies.

We have reviewed each of the 12 exceptions and have found that because this rule is administrative in nature, none of the exceptions apply. Although the exception at 43 CFR 46.215(h) applies to actions that “have a significant impact” on listed species or designated critical habitat, this action will not have any such significant impact, because it is administrative in nature and affects only the format in which critical habitat boundaries are delineated and not the substance of the critical habitat designations. Therefore, this action meets the requirements for a categorical exclusion from the NEPA process.

Government-to-Government Relationship With Tribes

In accordance with the President's memorandum of April 29, 1994, “Government-to-Government Relations with Native American Tribal Governments” (59 FR 22951), Executive Order 13175 “Consultation and Coordination with Indian Tribal Governments,” and the Department of the Interior Manual at 512 DM 2, we readily acknowledge our responsibility to communicate meaningfully with recognized Native American Tribes on a government-to-government basis. We have evaluated the potential effects on federally recognized Tribes from these revisions to our regulations. We have determined that there are no potential effects to federally recognized Tribes, as the revisions to the regulations are intended to promote the usability of critical habitat designations and save taxpayer monies. We will continue to coordinate with Tribes as we promulgate critical habitat designations.

Energy Supply, Distribution, or Use

Executive Order 13211 (Actions Concerning Regulations That Significantly Affect Energy Supply, Distribution, or Use) requires agencies to prepare Statements of Energy Effects when undertaking certain actions. “Significant energy action” means any action by an agency (normally published in the Federal Register) that promulgates or is expected to lead to the promulgation of a final rule or regulation, including notices of inquiry, advance notices of proposed rulemaking, and notices of proposed rulemaking that is a significant regulatory action under Executive Order 12866 or any successor order, and is likely to have a significant adverse effect on the supply, distribution, or use of energy; or that is designated by the Administrator of the Office of Information and Regulatory Affairs as a significant energy action. This rule does not qualify as a significant regulatory action under Executive Order 12866 and will not have a significant adverse effect on the supply, distribution, or use of energy, and has not been designated by the Administrator of the Office of Information and Regulatory Affairs as a significant energy action. Therefore, this action is not a significant energy action and no Statement of Energy Effects is required.

List of Subjects in 50 CFR Part 17

Endangered and threatened species, Exports, Imports, Reporting and recordkeeping requirements, Transportation.

Regulation Promulgation

Accordingly, we amend part 17, subchapter B of chapter I, title 50 of the Code of Federal Regulations, as follows:

PART 17—ENDANGERED AND THREATENED WILDLIFE AND PLANTS

1. The authority citation for part 17 continues to read as follows:

Authority: 16 U.S.C. 1361-1407; 1531-1544; 4201-4245, unless otherwise noted.

2. Amend § 17.94 by revising the table in paragraph (b) to read as follows:

§ 17.94 Critical habitats.

* * * * *

(b) * * *

If the critical habitat map appears in . . . | Then . . .
(1) A critical habitat designation in § 17.95(a), (b), (d), (e), (f), (g), (h), or (i), or in § 17.96(a), and the designation does not state that the map(s) is for informational purposes only, or (2) A critical habitat designation in § 17.99, or (3) A critical habitat designation published and effective after May 31, 2012, | The map provided by the Secretary of the Interior, as clarified or refined by any textual language within the rule, constitutes the definition of the boundaries of a critical habitat. Each critical habitat area will be shown on a map, with more-detailed information discussed in the preamble of the rulemaking documents published in the Federal Register and made available from the lead field office of the Service responsible for such designation. Each area will be referenced to the State(s), county(ies), or other local government units within which all or part of the critical habitat is located. General descriptions of the location and boundaries of each area may be provided to clarify or refine what is included within the boundaries depicted on the map, or to explain the exclusion of sites (e.g., paved roads, buildings) within the mapped area. Unless otherwise indicated within the critical habitat descriptions, the names of the State(s) and county(ies) are provided for informational purposes only and do not constitute the boundaries of the area.
(4) A critical habitat designation that states that the map(s) is for informational purposes only, or (5) A critical habitat designation published and effective on or prior to May 31, 2012, that is set forth at § 17.95(c), | The map provided by the Secretary of the Interior is for reference purposes to guide Federal agencies and other interested parties in locating the general boundaries of the critical habitat. The map does not, unless otherwise indicated, constitute the definition of the boundaries of a critical habitat. Critical habitats are described by reference to surveyable landmarks found on standard topographic maps of the area and to the States and county(ies) within which all or part of the critical habitat is located. Unless otherwise indicated within the critical habitat description, the State and county(ies) names are provided for informational purposes only.

3. Amend § 17.96(a) as follows:

a. In the entry Family Apiaceae: Lilaeopsis schaffneriana var. recurva (Huachuca water umbel), by revising the note.

b. In the entry Family Apiaceae: Lomatium cookii (Cook's lomatium, Cook's desert parsley), by:

i. Removing paragraphs (6)(ii) through (v);

ii. Redesignating paragraph (6)(vi) as (6)(ii), and removing the word “NOTE:”;

iii. Removing paragraph (7)(ii);

iv. Redesignating paragraph (7)(iii) as (7)(ii), and removing the word “NOTE:”;

v. Removing paragraphs (8)(ii) through (vi);

vi. Redesignating paragraph (8)(vii) as (8)(ii), and removing the word “NOTE:”;

vii. Removing paragraphs (10)(ii) and (iii);

viii. Redesignating paragraph (10)(iv) as (10)(ii), and removing the word “NOTE:”;

ix. Removing paragraph (11)(ii);

x. Redesignating paragraph (11)(iii) as (11)(ii), and removing the word “NOTE:”;

xi. Removing paragraph (12)(ii);

xii. Redesignating paragraph (12)(iii) as (12)(ii), and removing the word “NOTE:”;

xiii. Removing paragraph (13)(ii);

xiv. Redesignating paragraph (13)(iii) as (13)(ii), and removing the word “NOTE:”;

xv. Revising paragraph (14)(ii);

xvi. Removing the word “NOTE:” from paragraph (14)(iii);

xvii. Removing paragraphs (15)(ii) and (iii);

xviii. Redesignating paragraph (15)(iv) as (15)(ii), and removing the word “NOTE:”;

xix. Removing paragraph (16)(ii);

xx. Redesignating paragraph (16)(iii) as (16)(ii), and removing the word “NOTE:”;

xxi. Removing paragraph (17)(ii);

xxii. Redesignating paragraph (17)(iii) as (17)(ii), and removing the word “NOTE:”;

xxiii. Removing paragraph (18)(ii);

xxiv. Redesignating paragraph (18)(iii) as (18)(ii), and removing the word “NOTE:”;

xxv. Removing paragraph (19)(ii);

xxvi. Redesignating paragraph (19)(iii) as (19)(ii), and removing the word “NOTE:”;

xxvii. Removing paragraph (20)(ii);

xxviii. Redesignating paragraph (20)(iii) as (20)(ii), and removing the word “NOTE:”;

xxix. Revising paragraph (21)(ii);

xxx. Removing the word “NOTE:” from paragraph (21)(iii);

xxxi. Removing paragraph (22)(ii); and

xxxii. Redesignating paragraph (22)(iii) as (22)(ii), and removing the word “NOTE:”.

c. In the entry Family Asclepiadaceae: Asclepias welshii (Welsh's milkweed), by revising the note.

d. In the entry Family Asteraceae: Ambrosia pumila (San Diego ambrosia), by:

i. Removing and reserving paragraph (6)(i);

ii. Removing paragraph (6)(ii);

iii. Redesignating paragraph (6)(iii) as (6)(ii), and removing the word “NOTE:”;

iv. Removing and reserving paragraph (7)(i);

v. Removing paragraph (7)(ii);

vi. Redesignating paragraph (7)(iii) as (7)(ii), and removing the word “NOTE:”;

vii. Removing and reserving paragraph (8)(i);

viii. Removing paragraphs (8)(ii) through (iv);

ix. Redesignating paragraph (8)(v) as (8)(ii), and removing the word “NOTE:”;

x. Revising paragraph (9)(i);

xi. Removing paragraph (9)(ii);

xii. Redesignating paragraph (9)(iii) as (9)(ii), and removing the word “NOTE:”;

xiii. Removing and reserving paragraph (10)(i);

xiv. Removing the word “NOTE:” from paragraph (10)(ii);

xv. Removing and reserving paragraph (11)(i);

xvi. Removing paragraphs (11)(ii) and (iii); and

xvii. Redesignating paragraph (11)(iv) as (11)(ii), and removing the word “NOTE:”.

e. In the entry Family Asteraceae: Cirsium hydrophilum var. hydrophilum (Suisun thistle), by:

i. Removing and reserving paragraph (6)(i);

ii. Removing the word “NOTE:” from paragraph (6)(ii);

iii. Removing and reserving paragraph (7)(i);

iv. Removing the word “NOTE:” from paragraph (7)(ii);

v. Removing and reserving paragraph (8)(i); and

vi. Removing the word “NOTE:” from paragraph (8)(ii).

f. In the entry Family Asteraceae: Cirsium loncholepis (La Graciosa thistle), by:

i. Revising paragraph (6)(i);

ii. Removing paragraphs (6)(ii) through (xvi);

iii. Redesignating paragraph (6)(xvii) as (6)(ii), and removing the word “NOTE:”;

iv. Revising paragraph (7)(i);

v. Removing paragraph (7)(ii);

vi. Redesignating paragraph (7)(iii) as (7)(ii), and removing the word “NOTE:”;

vii. Removing and reserving paragraph (8)(i);

viii. Removing the word “NOTE:” from paragraph (8)(ii);

ix. Removing and reserving paragraph (9)(i);

x. Removing paragraph (9)(ii);

xi. Redesignating paragraph (9)(iii) as (9)(ii), and removing the word “NOTE:”;

xii. Removing and reserving paragraph (10)(i);

xiii. Removing the word “NOTE:” from paragraph (10)(ii);

xiv. Removing and reserving paragraph (11)(i);

xv. Removing paragraphs (11)(ii) and (iii); and

xvi. Redesignating paragraph (11)(iv) as (11)(ii), and removing the word “NOTE:”.

g. In the entry Family Asteraceae: Deinandra conjugens (Otay tarplant), by adding a sentence to the end of paragraph (1).

h. In the entry Family Asteraceae: Deinandra increscens ssp. villosa (Gaviota tarplant), by adding a sentence to the end of paragraph (1).

i. In the entry for Family Asteraceae: Enceliopsis nudicaulis var. corrugata (Ash Meadows sunray), by revising the note.

j. In the entry Family Asteraceae: Erigeron decumbens var. decumbens (Willamette daisy), by:

i. Removing and reserving paragraph (6)(i);

ii. Removing paragraph (6)(ii);

iii. Redesignating paragraph (6)(iii) as (6)(ii), and removing the word “NOTE:”;

iv. Removing and reserving paragraph (7)(i);

v. Removing the word “NOTE:” from paragraph (7)(ii);

vi. Removing and reserving paragraph (8)(i);

vii. Removing paragraphs (8)(ii) and (iii);

viii. Redesignating paragraph (8)(iv) as (8)(ii), and removing the word “NOTE:”;

ix. Removing and reserving paragraph (9)(i);

x. Removing paragraph (9)(ii);

xi. Redesignating paragraph (9)(iii) as (9)(ii), and removing the word “NOTE:”;

xii. Removing and reserving paragraph (10)(i);

xiii. Removing the word “NOTE:” from paragraph (10)(ii);

xiv. Removing and reserving paragraph (11)(i);

xv. Removing paragraphs (11)(ii) through (iv);

xvi. Redesignating paragraph (11)(v) as (11)(ii), and removing the word “NOTE:”;

xvii. Removing and reserving paragraph (12)(i);

xviii. Removing paragraph (12)(ii);

xix. Redesignating paragraph (12)(iii) as (12)(ii), and removing the word “NOTE:”;

xx. Removing and reserving paragraph (13)(i);

xxi. Removing paragraphs (13)(ii) through (v);

xxii. Redesignating paragraph (13)(vi) as (13)(ii), and removing the word “NOTE:”;

xxiii. Removing and reserving paragraph (14)(i);

xxiv. Removing paragraphs (14)(ii) through (v); and

xxv. Redesignating paragraph (14)(vi) as (14)(ii), and removing the word “NOTE:”.

k. In the entry Family Asteraceae: Erigeron Parishii (Parish's Daisy), by:

i. Revising the heading; and

ii. Adding a sentence to the end of paragraph (1).

l. In the entry Family Asteraceae: Grindelia fraxino-pratensis (Ash Meadows gumplant), by revising the note.

m. In the entry Family Asteraceae: Helianthus paradoxus (Pecos sunflower), by adding a sentence to the end of paragraph (1).

n. In the entry Family Asteraceae: Holocarpha macradenia (Santa Cruz tarplant), by adding a sentence to the end of paragraph (1).

o. In the entry Family Asteraceae: Lasthenia conjugens (Contra Costa Goldfields), by revising the heading and paragraph (1).

p. In the entry Family Asteraceae: Pentachaeta lyonii (Lyon's pentachaeta), by:

i. Removing and reserving paragraph (6)(i);

ii. Revising paragraph (6)(ii);

iii. Removing paragraphs (6)(iii) through (v);

iv. Removing and reserving paragraph (7)(i);

v. Removing paragraphs (7)(ii) and (iii);

vi. Redesignating paragraph (7)(iv) as (7)(ii), and removing the word “Note:”;

vii. Removing and reserving paragraph (8)(i);

viii. Revising paragraph (8)(ii);

ix. Removing paragraphs (8)(iii) through (v);

x. Removing and reserving paragraph (9)(i);

xi. Revising paragraph (9)(ii);

xii. Removing and reserving paragraph (10)(i);

xiii. Revising paragraph (10)(ii);

xiv. Removing paragraphs (10)(iii) through (v);

xv. Removing and reserving paragraph (11)(i); and

xvi. Removing the word “Note:” from paragraph (11)(ii).

q. In the entry Family Asteraceae: Senecio franciscanus (San Francisco Peaks groundsel), by revising the note.

r. In the entry Family Asteraceae: Stephanomeria malheurensis (Malheur wire-lettuce), by revising the note.

s. In the entry Family Asteraceae: Taraxacum californicum (California taraxacum), by

i. Removing and reserving paragraph (6)(i);

ii. Removing the word “Note:” from paragraph (6)(ii);

iii. Removing and reserving paragraph (7)(i);

iv. Removing the word “Note:” from paragraph (7)(ii);

v. Removing and reserving paragraph (8)(i);

vi. Removing the word “Note:” from paragraph (8)(ii);

vii. Removing and reserving paragraph (9)(i);

viii. Revising paragraph (9)(ii);

ix. Removing and reserving paragraph (10)(i);

x. Removing the word “Note:” from paragraph (10)(ii);

xi. Removing and reserving paragraph (11)(i);

xii. Removing the word “Note:” from paragraph (11)(ii);

xiii. Removing and reserving paragraph (12)(i);

xiv. Revising paragraph (12)(ii);

xv. Removing and reserving paragraph (13)(i);

xvi. Revising paragraph (13)(ii);

xvii. Removing and reserving paragraph (14)(i);

xviii. Revising paragraph (14)(ii);

xix. Removing and reserving paragraph (15)(i);

xx. Revising paragraph (15)(ii);

xxi. Removing and reserving paragraph (16)(i); and

xxii. Revising paragraph (16)(ii).

t. In the entry Family Berberidaceae: Berberis nevinii (Nevin's barberry), by revising paragraph (1).

u. In the entry Family Boraginaceae: Amsinckia grandiflora (large-flowered fiddleneck), by revising the note.

v. In the entry Family Brassicaceae: Arabis perstellata (Braun's rock-cress), by revising paragraph (1).

w. In the entry Family Brassicaceae: Erysimum capitatum var. angustatum (Contra Costa Wallflower), by revising the heading and the note.

x. In the entry Family Brassicaceae: Lesquerella Kingii ssp. Bernardina (San Bernardino Mountains Bladderpod), by revising the heading and paragraph (1).

y. In the entry Family Brassicaceae: Thlaspi californicum (Kneeland Prairie penny-cress), by adding a sentence to the end of paragraph (1).

z. In the entry Family Caryophyllaceae: Arenaria ursina (Bear Valley sandwort), by adding a sentence to the end of paragraph (1).

aa. In the entry Family Chenopodiaceae: Nitrophila mohavensis (Amargosa niterwort), by revising the note.

bb. In the entry Family Cistaceae: Hudsonia montana (Mountain golden heather), by revising the heading and the note.

cc. In the entry Family Cyperaceae: Carex lutea (Golden sedge), by:

i. Revising the heading;

ii. Removing paragraphs (6)(ii) through (iv);

iii. Redesignating paragraph (6)(v) as (6)(ii);

iv. Removing paragraph (7)(ii);

v. Redesignating paragraph (7)(iii) as (7)(ii);

vi. Removing paragraph (8)(ii);

vii. Redesignating paragraph (8)(iii) as (8)(ii);

viii. Removing paragraphs (9)(ii) and (iii);

ix. Redesignating paragraph (9)(iv) as (9)(ii);

x. Removing paragraphs (10)(ii) through (vi);

xi. Redesignating paragraph (10)(vii) as (10)(ii);

xii. Removing paragraphs (11)(ii) through (iv);

xiii. Redesignating paragraph (11)(v) as (11)(ii);

xiv. Removing paragraphs (12)(ii) through (iv);

xv. Redesignating paragraph (12)(v) as (12)(ii);

xvi. Removing paragraphs (13)(ii) through (iv); and

xvii. Redesignating paragraph (13)(v) as (13)(ii).

dd. In the entry Family Cyperaceae: Carex specuicola (Navajo sedge), by revising the note.

ee. In the entry Family Euphorbiaceae: Chamaesyce hooveri (Hoover's Spurge), by:

i. Revising the heading;

ii. Removing the second sentence of paragraph (4);

iii. Removing the word “Note:” from paragraph (5);

iv. Removing the second sentence of paragraph (6);

v. Removing the word “Note:” from paragraph (7);

vi. Revising paragraph (9);

vii. Removing and reserving paragraph (10)(i);

viii. Removing paragraphs (10)(ii) and (iii);

ix. Redesignating paragraph (10)(iv) as (10)(ii), and removing the word “Note:”;

x. Removing and reserving paragraph (11)(i);

xi. Removing paragraphs (11)(ii) through (v);

xii. Redesignating paragraph (11)(vi) as (11)(ii), and removing the word “Note:”;

xiii. Removing and reserving paragraph (12)(i);

xiv. Removing paragraphs (12)(ii) through (vii); and

xv. Redesignating paragraph (12)(viii) as (12)(ii), and removing the word “Note:”.

ff. In the entry Family Fabaceae: Astragalus Albens (Cushenbury Milk-Vetch), by revising the heading and paragraph (1).

gg. In the entry Family Fabaceae: Astragalus ampullarioides (Shivwits milk-vetch), by:

i. Removing and reserving paragraph (6)(i);

ii. Removing the word “Note:” from paragraph (6)(ii);

iii. Revising paragraph (7);

v. Removing and reserving paragraph (8)(i);

vi. Removing paragraphs (8)(ii) and (iii);

vii. Redesignating paragraph (8)(iv) as (8)(ii) and removing the word “Note:”;

viii. Removing and reserving paragraph (9)(i); and

ix. Removing the word “Note:” from paragraph (9)(ii).

hh. In the entry Family Fabaceae: Astragalus brauntonii (Braunton's milk-vetch), by:

i. Removing and reserving paragraph (6)(i);

ii. Revising paragraph (6)(ii);

iii. Removing paragraphs (6)(iii) through (v);

iv. Removing and reserving paragraph (7)(i);

v. Removing paragraphs (7)(ii) through (vi);

vi. Redesignating paragraph (7)(vii) as (7)(ii), and removing the word “Note:”;

vii. Removing and reserving paragraph (8)(i);

viii. Removing the word “Note:” from paragraph (8)(ii);

ix. Removing and reserving paragraph (9)(i);

x. Removing the word “Note:” from paragraph (9)(ii);

xi. Removing and reserving paragraph (10)(i);

xii. Removing the word “Note:” from paragraph (10)(ii);

xiii. Removing and reserving paragraph (11)(i); and

xiv. Removing the word “Note:” from paragraph (11)(ii).

ii. In the entry Family Fabaceae: Astragalus holmgreniorum (Holmgren milk-vetch), by:

i. Removing and reserving paragraph (6)(i);

ii. Removing paragraphs (6)(ii) and (iii);

iii. Redesignating paragraph (6)(iv) as (6)(ii), and removing the word “Note:”;

iv. Removing and reserving paragraph (7)(i);

v. Removing paragraph (7)(ii);

vi. Redesignating paragraph (7)(iii) as (7)(ii), and removing the word “Note:”;

vii. Removing and reserving paragraph (8)(i); and

viii. Removing the word “Note:” from paragraph (8)(ii).

jj. In the entry Family Fabaceae: Astragalus jaegerianus (Lane Mountain milk-vetch), by:

i. Removing and reserving paragraph (5)(i);

ii. Removing the word “Note:” from paragraph (5)(ii);

iii. Removing and reserving paragraph (6)(i); and

iv. Removing the word “Note:” from paragraph (6)(ii).

kk. In the entry Family Fabaceae: Astragalus lentiginosus var. piscinensis (Fish Slough milk-vetch), by adding a sentence to the end of paragraph (1).

ll. In the entry Family Fabaceae: Astragalus magdalenae var. peirsonii (Peirson's Milk-Vetch), by:

i. Revising the heading;

ii. Removing and reserving paragraph (6)(i);

iii. Removing paragraphs (6)(ii) through (iv);

iv. Redesignating paragraph (6)(v) as (6)(ii), and removing the word “Note:”;

v. Removing and reserving paragraph (7)(i);

vi. Removing paragraphs (7)(ii) and (iii);

vii. Redesignating paragraph (7)(iv) as (7)(ii), and removing the word “Note:”;

viii. Removing and reserving paragraph (8)(i); and

ix. Removing the word “Note:” from paragraph (8)(ii).

mm. In the entry Family Fabaceae: Astragalus montii (Heliotrope milk-vetch), by adding a note immediately before the map.

nn. In the entry Family Fabaceae: Astragalus phoenix (Ash Meadows milk-vetch), by revising the note.

oo. In the entry Family Fabaceae: Astragalus pycnostachyus var. lanosissimus (Ventura Marsh milk-vetch), by adding a sentence to the end of paragraph (1).

pp. In the entry Family Fabaceae: Lupinus sulphureus ssp. kincaidii (Kincaid's lupine), by:

i. Removing and reserving paragraph (6)(i);

ii. Removing the word “Note:” from paragraph (6)(ii);

iii. Removing and reserving paragraph (7)(i);

iv. Removing paragraph (7)(ii);

v. Redesignating paragraph (7)(iii) as (7)(ii), and removing the word “Note:”;

vi. Removing and reserving paragraph (8)(i);

vii. Removing paragraphs (8)(ii) through (iv);

viii. Redesignating paragraph (8)(v) as (8)(ii), and removing the word “Note:”;

ix. Removing and reserving paragraph (9)(i);

x. Removing paragraph (9)(ii);

xi. Redesignating paragraph (9)(iii) as (9)(ii), and removing the word “Note:”;

xii. Removing and reserving paragraph (10)(i);

xiii. Removing the word “Note:” from paragraph (10)(ii);

xiv. Removing and reserving paragraph (11)(i);

xv. Removing paragraphs (11)(ii) and (iii);

xvi. Redesignating paragraph (11)(iv) as (11)(ii), and removing the word “Note:”;

xvii. Removing and reserving paragraph (12)(i);

xviii. Removing paragraphs (12)(ii) through (x);

xix. Redesignating paragraph (12)(xi) as (12)(ii), and removing the word “Note:”;

xx. Removing and reserving paragraph (13)(i); and

xxi. Removing the word “Note:” from paragraph (13)(ii).

qq. In the entry Family Gentianaceae: Centaurium namophilum (spring-loving centaury), by revising the note.

rr. In the entry Family Hydrophyllaceae: Eriodictyon capitatum (Lompoc yerba santa), by revising paragraph (1).

ss. In the entry Family Lamiaceae: Acanthomintha ilicifolia (San Diego thornmint), by:

i. Removing and reserving paragraph (6)(i);

ii. Removing paragraph (6)(ii);

iii. Redesignating paragraph (6)(iii) as (6)(ii), and removing the word “Note:”;

iv. Removing and reserving paragraph (7)(i);

v. Removing paragraphs (7)(ii) through (ix);

vi. Redesignating paragraph (7)(x) as (7)(ii), and removing the word “Note:”;

vii. Removing and reserving paragraph (8)(i);

viii. Removing paragraphs (8)(ii) and (iii); and

ix. Redesignating paragraph (8)(iv) as (8)(ii), and removing the word “Note:”.

tt. In the entry Family Lamiaceae: Hedeoma todsenii (Todsens pennyroyal), by revising the note.

uu. In the entry Family Lamiaceae: Monardella viminea (willowy monardella), by:

i. Removing and reserving paragraph (5)(i);

ii. Removing paragraph (5)(ii); and

iii. Redesignating paragraph (5)(iii) as (5)(ii), and removing the word “Note:”.

vv. In the entry Family Liliaceae: Chlorogalum purpureum (purple amole), by adding a sentence to the end of paragraph (1).

ww. In the entry Family Limnanthaceae: Limnanthes floccosa ssp. californica (Butte County Meadowfoam), by:

i. Revising the heading;

ii. Removing paragraphs (4)(i) and (ii);

iii. Removing the second sentence of paragraphs (5), (6), and (7); and

iv. Removing the word “Note:” from paragraph (8).

xx. In the entry Family Limnanthaceae: Limnanthes floccosa ssp. grandiflora (large-flowered woolly meadowfoam), by:

i. Removing paragraph (6)(ii);

ii. Redesignating paragraph (6)(iii) as (6)(ii), and removing the word “Note:”;

iii. Removing paragraphs (7)(ii) through (v);

iv. Redesignating paragraph (7)(vi) as (7)(ii), and removing the word “Note:”;

v. Removing paragraphs (8)(ii) through (v);

vi. Redesignating paragraph (8)(vi) as (8)(ii), and removing the word “Note:”;

vii. Removing paragraph (9)(ii);

viii. Redesignating paragraph (9)(iii) as (9)(ii), and removing the word “Note:”;

ix. Removing paragraph (10)(ii);

x. Redesignating paragraph (10)(iii) as (10)(ii), and removing the word “Note:”;

xi. Removing paragraphs (11)(ii) through (ix);

xii. Redesignating paragraph (11)(x) as (11)(ii), and removing the word “Note:”;

xiii. Removing paragraph (12)(ii);

xiv. Redesignating paragraph (12)(iii) as (12)(ii), and removing the word “Note:”;

xv. Removing paragraph (13)(ii); and

xvi. Redesignating paragraph (13)(iii) as (13)(ii), and removing the word “Note:”.

yy. In the entry Family Loasaceae: Mentzelia leucophylla (Ash Meadows blazing star), by revising the note.

zz. In the entry Family Malvaceae: Kokia drynarioides (koki'o), by revising the notes in paragraphs 1., 2., and 3.

aaa. In the entry Family Malvaceae: Sidalcea keckii (Keck's checkermallow), by adding a sentence to the end of paragraph (1).

bbb. In the entry Family Malvaceae: Sidalcea oregana var. calva (Wenatchee Mountains checker-mallow), by adding a sentence to the end of paragraph (1).

ccc. In the entry Family Onagraceae: Oenothera deltoides ssp. howellii (Antioch Dunes Evening-Primrose), by revising the heading and the note.

ddd. In the entry Family Orchidaceae: Piperia yadonii (Yadon's piperia), by:

i. Removing and reserving paragraph (6)(i);

ii. Revising paragraph (6)(ii);

iii. Removing paragraph (6)(iii);

iv. Removing and reserving paragraph (8)(i);

v. Revising paragraph (8)(ii);

vi. Removing paragraphs (8)(iii) and (iv);

vii. Removing and reserving paragraph (9)(i);

viii. Removing paragraphs (9)(ii) and (iii);

ix. Redesignating paragraph (9)(iv) as (9)(ii), and removing the word “Note:”;

x. Removing and reserving paragraph (10)(i);

xi. Revising paragraph (10)(ii);

xii. Removing paragraph (10)(iii);

xiii. Removing and reserving paragraph (11)(i);

xiv. Revising paragraph (11)(ii);

xv. Removing and reserving paragraph (12)(i);

xvi. Removing paragraphs (12)(ii) through (xiv);

xvii. Redesignating paragraph (12)(xv) as (12)(ii), and revising its introductory text;

xviii. Removing and reserving paragraph (13)(i);

xix. Removing the word “Note:” from paragraph (13)(ii);

xx. Removing and reserving paragraph (14)(i); and

xxi. Removing the word “Note:” from paragraph (14)(ii).

eee. In the entry Family Orobanchaceae: Castilleja cinerea (Ash-Gray Indian Paintbrush), by:

i. Revising the heading; and

ii. Adding a sentence to the end of paragraph (1).

fff. In the entry Family Poaceae: Neostapfia colusana (Colusa Grass), by revising the heading and paragraph (1).

ggg. In the entry Family Poaceae: Orcuttia inaequalis (San Joaquin Valley Orcutt Grass), by:

i. Revising the heading;

ii. Removing the second sentence of paragraph (4);

iii. Removing the word “NOTE:” from paragraph (5);

iv. Removing the second sentence of paragraph (6);

v. Removing the word “NOTE:” from paragraph (7);

vi. Removing and reserving paragraph (8)(i);

vii. Removing paragraphs (8)(ii) and (iii);

viii. Redesignating paragraph (8)(iv) as (8)(ii), and removing the word “NOTE:”;

ix. Revising paragraph (9);

x. Removing and reserving paragraph (10)(i);

xi. Removing paragraph (10)(ii);

xii. Redesignating paragraph (10)(iii) as (10)(ii), and removing the word “NOTE:”;

xiii. Removing and reserving paragraph (11)(i);

xiv. Removing paragraphs (11)(ii) through (iv); and

xv. Redesignating paragraph (11)(v) as (11)(ii), and removing the word “NOTE:”.

hhh. In the entry Family Poaceae: Orcuttia pilosa (Hairy Orcutt Grass), by:

i. Revising the heading;

ii. Removing the second sentence of paragraph (4);

iii. Removing the word “NOTE:” from paragraph (5);

iv. Removing the second sentence of paragraph (6);

v. Removing the word “NOTE:” from paragraph (7);

vi. Removing and reserving paragraph (8)(i);

vii. Removing paragraphs (8)(ii) and (iii);

viii. Redesignating paragraph (8)(iv) as (8)(ii), and removing the word “NOTE:”;

ix. Revising paragraphs (9) and (10);

x. Removing the word “NOTE:” from paragraph (11).

iii. In the entry Family Poaceae: Orcuttia tenuis (Slender Orcutt Grass), by:

i. Revising the heading;

ii. Removing paragraphs (4)(i) and (ii);

iii. Redesignating paragraph (4)(iii) as (4)(i), and removing the word “NOTE:”;

iv. Removing paragraphs (4)(iv) through (vi);

v. Redesignating paragraph (4)(vii) as (4)(ii), and removing the word “NOTE:”;

vi. Removing paragraphs (4)(viii) through (xii);

vii. Redesignating paragraph (4)(xiii) as (4)(iii), and removing the word “NOTE:”;

viii. Removing paragraph (4)(xiv);

ix. Redesignating paragraph (4)(xv) as (4)(iv), and removing the word “NOTE:”;

x. Removing and reserving paragraph (5)(i);

xi. Removing paragraphs (5)(ii) through (iv);

xii. Redesignating paragraph (5)(v) as (5)(ii), and removing the word “NOTE:”;

xiii. Revising paragraph (6)(i);

xiv. Removing paragraph (6)(ii);

xv. Redesignating paragraph (6)(iii) as (6)(ii), and removing the word “NOTE:”;

xvi. Removing the second sentence of paragraph (7);

xvii. Removing the word “NOTE:” from paragraph (8);

xviii. Revising paragraph (9)(i);

xix. Removing paragraph (9)(ii);

xx. Redesignating paragraph (9)(iii) as (9)(ii), and removing the word “NOTE:”;

xxi. Removing the second sentence of paragraph (10); and

xxii. Removing the word “NOTE:” from paragraph (11).

jjj. In the entry Family Poaceae: Orcuttia viscida (Sacramento Orcutt Grass), by:

i. Revising the heading;

ii. Removing the second sentence of paragraph (4);

iii. Removing the word “NOTE:” from paragraph (5);

iv. Removing the second sentence of paragraph (6);

v. Removing the word “NOTE:” from paragraph (7);

vi. Removing the second sentence of paragraph (8); and

vii. Removing the word “NOTE:” from paragraph (9).

kkk. In the entry Family Poaceae: Poa atropurpurea (San Bernardino bluegrass), by:

i. Removing and reserving paragraph (6)(i);

ii. Removing the word “NOTE:” from paragraph (6)(ii);

iii. Removing and reserving paragraph (7)(i);

iv. Removing the word “NOTE:” from paragraph (7)(ii);

v. Removing and reserving paragraph (8)(i);

vi. Removing the word “NOTE:” from paragraph (8)(ii);

vii. Removing and reserving paragraph (9)(i);

viii. Removing the word “NOTE:” from paragraph (9)(ii);

ix. Removing and reserving paragraph (10)(i);

x. Removing the word “NOTE:” from paragraph (10)(ii);

xi. Removing and reserving paragraph (11)(i);

xii. Removing the word “NOTE:” from paragraph (11)(ii);

xiii. Revising paragraph (12)(i);

xiv. Removing the word “NOTE:” from paragraph (12)(ii);

xv. Removing and reserving paragraph (13)(i); and

xvi. Revising paragraph (13)(ii).

lll. In the entry Family Poaceae: Tuctoria greenei (Greene's Tuctoria), by:

i. Removing the second sentence of paragraph (4);

ii. Removing the word “NOTE:” from paragraph (5);

iii. Removing the second sentence of paragraph (6);

iv. Removing the word “NOTE:” from paragraph (7);

v. Removing the second sentence of paragraph (8);

vi. Removing the word “NOTE:” from paragraph (9);

vii. Removing and reserving paragraph (10)(i);

viii. Removing paragraphs (10)(ii) through (v);

ix. Redesignating paragraph (10)(vi) as (10)(ii), and removing the word “NOTE:”;

x. Redesignating paragraph (11) as paragraph (12), paragraph (12) as paragraph (13), and paragraph (13) as paragraph (11);

xi. In newly redesignated paragraph (11), removing the second sentence;

xii. In newly redesignated paragraph (12), removing the word “NOTE:”;

xiii. Removing and reserving newly redesignated paragraph (13)(i);

xiv. Removing newly redesignated paragraphs (13)(ii) and (iii); and

xv. Redesignating newly redesignated paragraph (13)(iv) as (13)(ii), and removing the word “NOTE:”.

mmm. In the entry Family Poaceae: Tuctoria mucronata (Solano Grass), by:

i. Revising the heading;

ii. Removing the second sentence of paragraph (4); and

iii. Removing the word “Note:” from paragraph (5).

nnn. In the entry Family Poaceae: Zizania texana (Texas Wild-Rice), by revising the heading and the note.

ooo. In the entry Family Polemoniaceae: Navarretia fossalis (spreading navarretia), by:

i. Removing and reserving paragraph (6)(i);

ii. Removing the word “NOTE:” from paragraph (6)(ii);

iii. Removing and reserving paragraph (7)(i);

iv. Removing the word “NOTE:” from paragraph (7)(ii);

v. Removing and reserving paragraph (8)(i);

vi. Removing the word “NOTE:” from paragraph (8)(ii);

vii. Removing and reserving paragraph (9)(i);

viii. Removing the word “Note:” from paragraph (9)(ii);

ix. Removing and reserving paragraph (10)(i);

x. Removing the word “Note:” from paragraph (10)(ii);

xi. Removing and reserving paragraph (11)(i);

xii. Removing the word “Note:” from paragraph (11)(ii);

xiii. Removing and reserving paragraph (12)(i);

xiv. Removing the word “Note:” from paragraph (12)(ii);

xv. Removing and reserving paragraph (13)(i);

xvi. Removing the word “Note:” from paragraph (13)(ii);

xvii. Removing and reserving paragraph (14)(i);

xviii. Removing the word “Note:” from paragraph (14)(ii);

xix. Removing and reserving paragraph (15)(i);

xx. Removing the word “Note:” from paragraph (15)(ii);

xxi. Removing and reserving paragraph (16)(i);

xxii. Removing the word “Note:” from paragraph (16)(ii);

xxiii. Removing and reserving paragraph (17)(i);

xxiv. Removing the word “Note:” from paragraph (17)(ii);

xxv. Removing and reserving paragraph (18)(i);

xxvi. Removing the word “Note:” from paragraph (18)(ii);

xxvii. Removing and reserving paragraph (19)(i);

xxviii. Removing the word “Note:” from paragraph (19)(ii);

xxix. Removing and reserving paragraph (20)(i);

xxx. Removing the word “Note:” from paragraph (20)(ii);

xxxi. Removing and reserving paragraph (21)(i);

xxxii. Removing paragraphs (21)(ii) through (x);

xxxiii. Redesignating paragraph (21)(xi) as (21)(ii), and removing the word “Note:”;

xxxiv. Removing and reserving paragraph (22)(i);

xxxv. Removing paragraphs (22)(ii) and (iii);

xxxvi. Redesignating paragraph (22)(iv) as (22)(ii), and removing the word “Note:”;

xxxvii. Removing and reserving paragraph (23)(i);

xxxviii. Removing paragraphs (23)(ii) through (iv);

xxxix. Redesignating paragraph (23)(v) as (23)(ii), and removing the word “Note:”;

xl. Removing and reserving paragraph (24)(i);

xli. Removing the word “Note:” from paragraph (24)(ii);

xlii. Removing and reserving paragraph (25)(i);

xliii. Removing paragraph (25)(ii); and

xliv. Redesignating paragraph (25)(iii) as (25)(ii), and removing the word “Note:”.

ppp. In the entry Family Polygonaceae: Chorizanthe pungens var. pungens (Monterey spineflower), by:

i. Removing and reserving paragraph (6)(i);

ii. Removing the word “NOTE:” from paragraph (6)(ii);

iii. Removing and reserving paragraph (7)(i);

iv. Removing paragraphs (7)(ii) and (iii);

v. Redesignating paragraph (7)(iv) as (7)(ii), and removing the word “NOTE:”;

vi. Removing and reserving paragraph (8)(i);

vii. Removing the word “NOTE:” from paragraph (8)(ii);

viii. Revising paragraphs (9), (10), (11), (12), and (13);

ix. Removing and reserving paragraph (14)(i); and

x. Removing the word “NOTE:” from paragraph (14)(ii).

qqq. In the entry Family Polygonaceae: Chorizanthe robusta var. hartwegii (Scotts Valley spineflower), by adding a sentence to the end of paragraph (1).

rrr. In the entry Family Polygonaceae: Chorizanthe robusta var. robusta (robust spineflower), by adding a sentence to the end of paragraph (1).

sss. In the entry Family Polygonaceae: Eriogonum gypsophilum (Gypsum Wild Buckwheat), by revising the heading and the note.

ttt. In the entry Family Polygonaceae: Eriogonum kennedyi var. austromontanum (Southern mountain wild-buckwheat), by adding a sentence to the end of paragraph (1).

uuu. In the entry Family Polygonaceae: Eriogonum Ovalifolium var. Vineum (Cushenbury Buckwheat), by revising the heading and paragraph (1).

vvv. In the entry Family Polygonaceae: Eriogonum pelinophilum (clay-loving wild-buckwheat), by revising the note.

www. In the entry Family Polygonaceae: Oxytheca Parishii var. goodmaniana (Cushenbury Oxytheca), by revising the heading and paragraph (1).

xxx. In the entry Family Polygonaceae: Polygonum hickmanii (Scotts Valley polygonum), by adding a sentence to the end of paragraph (1).

yyy. In the entry Family Ranunculaceae: Delphinium bakeri (Baker's larkspur), by adding a sentence to the end of paragraph (1).

zzz. In the entry Family Ranunculaceae: Delphinium luteum (Yellow larkspur), by revising the heading and adding a sentence to the end of paragraph (1).

aaaa. In the entry Family Rhamnaceae: Ceanothus ophiochilus (Vail Lake ceanothus), by removing and reserving paragraph (5)(i).

bbbb. In the entry Family Rosaceae: Invesia kingii var. eremica (Ash Meadows invesia), by revising the heading and the note.

cccc. In the entry Family Rubiaceae: Catesbaea melanocarpa (no common name), by:

i. Removing paragraph (5)(ii); and

ii. Redesignating paragraph (5)(iii) as (5)(ii), and removing the word “NOTE:”.

dddd. In the entry Family Scrophulariaceae: Castilleja campestris ssp. succulenta (Fleshy owl's-clover), by:

i. Revising the heading;

ii. Removing the second sentence of paragraph (4);

iii. Removing the word “NOTE:” from paragraph (5);

iv. Removing the second sentence of paragraph (6);

v. Removing the word “NOTE:” from paragraph (7);

vi. Removing and reserving paragraph (8)(i);

vii. Removing paragraph (8)(ii);

viii. Redesignating paragraph (8)(iii) as (8)(ii), and removing the word “NOTE:”;

ix. Removing paragraphs (9)(i) and (ii);

x. Redesignating paragraph (9)(iii) as (9)(i), and removing the word “NOTE:”;

xi. Removing paragraph (9)(iv);

xii. Redesignating paragraph (9)(v) as (9)(ii), and removing the word “NOTE:”;

xiii. Removing and reserving paragraph (10)(i);

xiv. Removing paragraph (10)(ii);

xv. Redesignating paragraph (10)(iii) as (10)(ii), and removing the word “NOTE:”;

xvi. Removing and reserving paragraph (11)(i);

xvii. Removing paragraph (11)(ii); and

xviii. Redesignating paragraph (11)(iii) as (11)(ii), and removing the word “NOTE:”.

eeee. In the entry Family Scrophulariaceae: Cordylanthus mollis ssp. mollis (soft bird's-beak), by:

i. Removing and reserving paragraph (6)(i);

ii. Removing the word “NOTE:” from paragraph (6)(ii);

iii. Removing and reserving paragraph (7)(i);

iv. Removing the word “NOTE:” from paragraph (7)(ii);

v. Removing and reserving paragraph (8)(i);

vi. Removing the word “NOTE:” from paragraph (8)(ii);

vii. Removing and reserving paragraph (9)(i);

viii. Removing the word “NOTE:” from paragraph (9)(ii);

ix. Removing and reserving paragraph (10)(i); and

x. Removing the word “NOTE:” from paragraph (10)(ii).

ffff. In the entry Family Sterculiaceae: Fremontodendron mexicanum (Mexican flannelbush), by:

i. Removing and reserving paragraph (5)(i);

ii. Removing paragraphs (5)(ii) and (iii); and

iii. Redesignating paragraph (5)(iv) as (5)(ii), and revising its introductory text.

gggg. In the entry Family Themidaceae: Brodiaea filifolia (thread-leaved brodiaea), by:

i. Removing and reserving paragraph (6)(i);

ii. Removing paragraph (6)(ii);

iii. Redesignating paragraph (6)(iii) as (6)(ii), and removing the word “NOTE:”;

iv. Removing and reserving paragraph (7)(i);

v. Removing the word “NOTE:” from paragraph (7)(ii);

vi. Removing and reserving paragraph (8)(i);

vii. Removing the word “NOTE:” from paragraph (8)(ii);

viii. Removing and reserving paragraph (9)(i);

ix. Removing paragraphs (9)(ii) and (iii);

x. Redesignating paragraph (9)(iv) as (9)(ii), and removing the word “NOTE:”;

xi. Removing and reserving paragraph (10)(i);

xii. Removing the word “NOTE:” from paragraph (10)(ii);

xiii. Removing and reserving paragraph (11)(i);

xiv. Removing paragraphs (11)(ii) through (v);

xv. Redesignating paragraph (11)(vi) as (11)(ii), and removing the word “NOTE:”;

xvi. Removing and reserving paragraph (12)(i);

xvii. Removing paragraphs (12)(ii) and (iii);

xviii. Redesignating paragraph (12)(iv) as (12)(ii), and removing the word “NOTE:”;

xix. Removing and reserving paragraph (13)(i);

xx. Removing paragraphs (13)(ii) and (iii);

xxi. Redesignating paragraph (13)(iv) as (13)(ii), and removing the word “NOTE:”;

xxii. Removing paragraphs (14)(i) through (v);

xxiii. Redesignating paragraph (14)(vi) as (14)(i), and removing the word “NOTE:”;

xxiv. Removing paragraph (14)(vii);

xxv. Redesignating paragraph (14)(viii) as (14)(ii), and removing the word “NOTE:”;

xxvi. Revising paragraph (15)(i); and

xxvii. Removing the word “NOTE:” from paragraph (15)(ii).

The revisions and additions read as follows:

§ 17.96 Critical habitat—plants.

(a) Flowering plants.

* * * * *

Family Apiaceae: Lilaeopsis schaffneriana var. recurva (Huachuca water umbel)

* * * * *

NOTE: The maps provided are for informational purposes only. Maps for Units 1-7 follow:

* * * * *

Family Apiaceae: Lomatium cookii (Cook's lomatium, Cook's desert parsley)

* * * * *

(14) * * *

(ii) Unit IV5 excludes land bound by 447470, 4673148; 447474, 4673000; 448289, 4673443; 448361, 4673480; 448056, 4673583; 447789, 4673459; 447703, 4673370; 447653, 4673327; 447540, 4673183; 447470, 4673148.

* * * * *

(21) * * *

(ii) Unit IV12 excludes land bound by 447273, 4659208; 447203, 4659076; 446889, 4658443; 446818, 4658110; 446840, 4658012; 446808, 4657965; 446838, 4657883; 446882, 4657863; 447019, 4657935; 447073, 4658033; 447029, 4658069; 446977, 4658167; 447192, 4658493; 447212, 4658784; 447290, 4658824; 447455, 4658678; 447581, 4658749; 447723, 4658749; 447975, 4658749; 447971, 4658840; 447876, 4659346; 447403, 4659604; 447407, 4659962; 447305, 4660216; 447329, 4660591; 447452, 4660569; 447689, 4660530; 447706, 4660555; 447643, 4660838; 447497, 4660883; 447296, 4660866; 447186, 4660643; 447167, 4660448; 447273, 4659208.

* * * * *

Family Asclepiadaceae: Asclepias welshii (Welsh's milkweed)

* * * * *

NOTE: The map provided is for informational purposes only. Map follows:

* * * * *

Family Asteraceae: Ambrosia pumila (San Diego ambrosia)

* * * * *

(9) * * *

(i) Subunit 5B excludes land bound by 485418, 3656210; 485473, 3656204; 485522, 3656211; 485590, 3656193; 485677, 3656187; 485720, 3656187; 485731, 3656348; 485724, 3656348; 485576, 3656356; 485534, 3656359; 485509, 3656315; 485472, 3656290; 485448, 3656272; 485411, 3656271; 485411, 3656267; 485411, 3656234; returning to 485418, 3656210.

* * * * *

Family Asteraceae: Cirsium loncholepis (La Graciosa thistle)

* * * * *

(6) * * *

(i) Subunit 1A excludes land bounded by the following Universal Transverse Mercator (UTM) North American Datum of 1983 (NAD83) coordinates (E,N):

(A) 717937.807, 3880783.475; 717849.041, 3880821.504; 717848.938, 3880817.720; 717849.392, 3880817.650; 717845.549, 3880807.313; 717843.593, 3880800.027; 717841.269, 3880793.548; 717837.501, 3880785.669; 717836.131, 3880783.911; 717828.857, 3880776.863; 717817.989, 3880765.903; 717812.187, 3880758.047; 717776.455, 3880744.115; 717946.560, 3880643.422; 717990.327, 3880695.942; thence returning to 717937.807, 3880783.475.

(B) 717791.575, 3880459.554; 717799.332, 3880445.386; 717793.518, 3880418.908; 717877.719, 3880381.762; 717877.788, 3880381.731; 717878.022, 3880381.614; 717878.247, 3880381.481; 717878.464, 3880381.333; 717878.670, 3880381.172; 717931.589, 3880343.026; 717999.080, 3880459.602; 717946.560, 3880564.642; 717687.919, 3880630.938; 717691.226, 3880626.729; 717694.265, 3880622.551; 717699.251, 3880616.956; 717706.283, 3880606.405; 717710.417, 3880598.353; 717714.342, 3880595.747; 717713.908, 3880594.512; 717712.625, 3880591.920; 717715.053, 3880585.202; 717716.723, 3880581.192; 717718.867, 3880576.150; 717721.160, 3880570.917; 717723.858, 3880566.063; 717724.433, 3880561.206; 717728.941, 3880560.990; 717731.725, 3880540.438; 717732.513, 3880535.099; 717733.828, 3880528.387; 717734.669, 3880522.890; 717736.483, 3880519.997; 717735.778, 3880516.228; 717736.401, 3880511.843; 717741.119, 3880509.748; 717750.271, 3880489.562, thence returning to 717791.575, 3880459.554.

* * * * *

(7) * * *

(i) Unit 2 excludes land bounded by the following UTM NAD83 coordinates (E,N): 733655.106, 3859548.220; 733713.315, 3859516.470; 733951.440, 3859516.470; 733951.440, 3859418.574; 734594.379, 3859415.928; 734594.379, 3860029.762; 734472.671, 3860021.825; 734462.087, 3860249.367; 734200.149, 3860336.680; 734110.191, 3860336.680; 733932.919, 3860286.409; 733932.919, 3860222.908; 733623.356, 3860209.679; 733615.419, 3860204.388; 733607.481, 3860127.658; 733567.794, 3860053.575; 733541.335, 3859939.804; 733533.398, 3859889.533, thence returning to 733655.106, 3859548.220.

* * * * *

Family Asteraceae: Deinandra conjugens (Otay tarplant)

(1) * * * The maps provided are for informational purposes only.

* * * * *

Family Asteraceae: Deinandra increscens ssp. villosa (Gaviota tarplant)

(1) * * * The maps provided are for informational purposes only.

* * * * *

Family Asteraceae: Enceliopsis nudicaulis var. corrugata (Ash Meadows sunray)

* * * * *

NOTE: Map provided is for informational purposes only. Map follows:

* * * * *

Family Asteraceae: Erigeron parishii (Parish's daisy)

(1) * * * The maps provided are for informational purposes only.

* * * * *

Family Asteraceae: Grindelia fraxino-pratensis (Ash Meadows gumplant)

* * * * *

NOTE: Map provided is for informational purposes only. Map follows:

* * * * *

Family Asteraceae: Helianthus paradoxus (Pecos sunflower)

(1) * * * The maps provided are for informational purposes only.

* * * * *

Family Asteraceae: Holocarpha macradenia (Santa Cruz tarplant)

(1) * * * The maps provided are for informational purposes only.

* * * * *

Family Asteraceae: Lasthenia conjugens (Contra Costa goldfields)

(1) Critical habitat units are depicted for Alameda, Contra Costa, Mendocino, Napa, and Solano Counties, California, on the maps in this entry. The maps provided are for informational purposes only.

* * * * *

Family Asteraceae: Pentachaeta lyonii (Lyon's pentachaeta)

* * * * *

(6) * * *

(ii) Unit 1 for Pentachaeta lyonii is depicted on Map 2 in paragraph (7)(ii) of this entry.

* * * * *

(8) * * *

(ii) Unit 3 for Pentachaeta lyonii is depicted on Map 3 in paragraph (11)(ii) of this entry.

(9) * * *

(ii) Unit 4 for Pentachaeta lyonii is depicted on Map 3 in paragraph (11)(ii) of this entry.

(10) * * *

(ii) Unit 5 for Pentachaeta lyonii is depicted on Map 3 in paragraph (11)(ii) of this entry.

* * * * *

Family Asteraceae: Senecio franciscanus (San Francisco Peaks groundsel)

* * * * *

NOTE: Map provided is for informational purposes only. Map follows:

* * * * *

Family Asteraceae: Stephanomeria malheurensis (Malheur wire-lettuce)

* * * * *

NOTE: Map provided is for informational purposes only. Map follows:

* * * * *

Family Asteraceae: Taraxacum californicum (California taraxacum)

* * * * *

(9) * * *

(ii) Unit 5 for Taraxacum californicum is depicted on the map in paragraph (6)(ii) of this entry.

* * * * *

(12) * * *

(ii) Unit 8 for Taraxacum californicum is depicted on the map in paragraph (11)(ii) of this entry.

(13) * * *

(ii) Unit 9 for Taraxacum californicum is depicted on the map in paragraph (11)(ii) of this entry.

(14) * * *

(ii) Unit 10 for Taraxacum californicum is depicted on the map in paragraph (11)(ii) of this entry.

(15) * * *

(ii) Unit 11 for Taraxacum californicum is depicted on the map in paragraph (11)(ii) of this entry.

(16) * * *

(ii) Unit 12 for Taraxacum californicum is depicted on the map in paragraph (11)(ii) of this entry.

* * * * *

Family Berberidaceae: Berberis nevinii (Nevin's barberry)

(1) Critical habitat is depicted for Riverside County, California, in the text and on the map in this entry. The map provided is for informational purposes only.

* * * * *

Family Boraginaceae: Amsinckia grandiflora (large-flowered fiddleneck)

* * * * *

NOTE: Map provided is for informational purposes only. Map follows:

* * * * *

Family Brassicaceae: Arabis perstellata (Braun's rock-cress)

(1) Critical habitat units are depicted for Franklin, Henry, and Owen Counties, Kentucky, and Rutherford and Wilson Counties, Tennessee, on the maps in this entry. The maps provided are for informational purposes only.

* * * * *

Family Brassicaceae: Erysimum capitatum var. angustatum (Contra Costa wallflower)

* * * * *

NOTE: Map provided is for informational purposes only. Map follows:

* * * * *

Family Brassicaceae: Lesquerella kingii ssp. bernardina (San Bernardino Mountains bladderpod)

(1) Critical habitat units are depicted for San Bernardino County, California, on the map in this entry. The map provided is for informational purposes only.

* * * * *

Family Brassicaceae: Thlaspi californicum (Kneeland Prairie penny-cress)

(1) * * * The map provided is for informational purposes only.

* * * * *

Family Caryophyllaceae: Arenaria ursina (Bear Valley sandwort).

(1) * * * The maps provided are for informational purposes only.

* * * * *

Family Chenopodiaceae: Nitrophila mohavensis (Amargosa niterwort)

* * * * *

NOTE: Map provided is for informational purposes only. Map follows:

* * * * *

Family Cistaceae: Hudsonia montana (mountain golden heather)

* * * * *

NOTE: Map provided is for informational purposes only. Map follows:

* * * * *

Family Cyperaceae: Carex lutea (golden sedge)

* * * * *

Family Cyperaceae: Carex specuicola (Navajo sedge)

* * * * *

NOTE: Map provided is for informational purposes only. Map follows:

* * * * *

Family Euphorbiaceae: Chamaesyce hooveri (Hoover's spurge)

* * * * *

(9) Unit 4: Stanislaus and Tuolumne Counties. Map of Unit 4 is provided at paragraph (10)(ii) of this entry.

* * * * *

Family Fabaceae: Astragalus albens (Cushenbury milk-vetch)

(1) Critical habitat units are depicted for San Bernardino County, California, on the map below. The map provided is for informational purposes only.

* * * * *

Family Fabaceae: Astragalus ampullarioides (Shivwits milk-vetch)

* * * * *

(7) Unit 3—Coral Canyon, Washington County, Utah. Map of Unit 3 is provided at paragraph (8)(ii) of this entry.

* * * * *

Family Fabaceae: Astragalus brauntonii (Braunton's milk-vetch)

* * * * *

(6) * * *

(ii) Unit 1 for Astragalus brauntonii is depicted on Map 2 in paragraph (7)(ii) of this entry.

* * * * *

Family Fabaceae: Astragalus lentiginosus var. piscinensis (Fish Slough milk-vetch)

(1) * * * The map provided is for informational purposes only.

* * * * *

Family Fabaceae: Astragalus magdalenae var. peirsonii (Peirson's milk-vetch)

* * * * *

Family Fabaceae: Astragalus montii (Heliotrope milk-vetch)

* * * * *

NOTE: Map provided is for informational purposes only. Map follows:

* * * * *

Family Fabaceae: Astragalus phoenix (Ash Meadows milk-vetch)

* * * * *

NOTE: Map provided is for informational purposes only. Map follows:

* * * * *

Family Fabaceae: Astragalus pycnostachyus var. lanosissimus (Ventura Marsh milk-vetch)

(1) * * * The maps provided are for informational purposes only.

* * * * *

Family Gentianaceae: Centaurium namophilum (spring-loving centaury)

* * * * *

NOTE: Map provided is for informational purposes only. Map follows:

* * * * *

Family Hydrophyllaceae: Eriodictyon capitatum (Lompoc yerba santa)

(1) Critical habitat units are depicted for Santa Barbara County, California, on the map in this entry. The map provided is for informational purposes only.

* * * * *

Family Lamiaceae: Hedeoma todsenii (Todsens pennyroyal)

* * * * *

NOTE: Map provided is for informational purposes only. Map follows:

* * * * *

Family Liliaceae: Chlorogalum purpureum (purple amole)

(1) * * * The maps provided are for informational purposes only.

* * * * *

Family Limnanthaceae: Limnanthes floccosa ssp. californica (Butte County meadowfoam)

* * * * *

Family Loasaceae: Mentzelia leucophylla (Ash Meadows blazing star)

* * * * *

NOTE: Map provided is for informational purposes only. Map follows:

* * * * *

Family Malvaceae: Kokia drynarioides (koki'o)

* * * * *

1. * * *

NOTE: Map provided is for informational purposes only. Map follows:

* * * * *

2. * * *

NOTE: Map provided is for informational purposes only. Map follows:

* * * * *

3. * * *

NOTE: Map provided is for informational purposes only. Map follows:

* * * * *

Family Malvaceae: Sidalcea keckii (Keck's checkermallow)

(1) * * * The maps provided are for informational purposes only.

* * * * *

Family Malvaceae: Sidalcea oregana var. calva (Wenatchee Mountains checker-mallow)

(1) * * * The map provided is for informational purposes only.

* * * * *

Family Onagraceae: Oenothera deltoides ssp. howellii (Antioch Dunes evening-primrose)

* * * * *

NOTE: Map provided is for informational purposes only. Map follows:

* * * * *

Family Orchidaceae: Piperia yadonii (Yadon's piperia)

* * * * *

(6) * * *

(ii) Unit 1 is depicted on Map 2 in paragraph (9)(ii) of this entry.

* * * * *

(8) * * *

(ii) Unit 2 is depicted on Map 2 in paragraph (9)(ii) of this entry.

* * * * *

(10) * * *

(ii) Unit 4 is depicted on Map 3 in paragraph (12)(ii) of this entry.

* * * * *

(11) * * *

(ii) Unit 5 is depicted on Map 3 in paragraph (12)(ii) of this entry.

* * * * *

(12) * * *

(ii) Map of Units 4, 5, and 6 (Map 3) and detail map of Subunit 6a (Map 4) follow:

* * * * *

Family Orobanchaceae: Castilleja cinerea (ash-gray Indian paintbrush)

(1) * * * The maps provided are for informational purposes only.

* * * * *

Family Poaceae: Neostapfia colusana (Colusa grass)

(1) Critical habitat units are depicted for Mariposa, Merced, Stanislaus, Tuolumne, and Yolo Counties, California, on the maps below. The maps provided are for informational purposes only.

* * * * *

Family Poaceae: Orcuttia inaequalis (San Joaquin Valley Orcutt grass)

* * * * *

(9) Unit 4: Fresno County, California. Map of Unit 4 is provided at paragraph (10)(ii) of this entry.

* * * * *

Family Poaceae: Orcuttia pilosa (hairy Orcutt grass)

* * * * *

(9) Unit 5: Madera County, California. Map of Unit 5 is provided at paragraph (11) of this entry.

(10) Unit 6: Madera County, California. Map of Unit 6 is provided at paragraph (11) of this entry.

* * * * *

Family Poaceae: Orcuttia tenuis (slender Orcutt grass)

* * * * *

(6) * * *

(i) Unit 3A excludes land bounded by 579328, 4466483; 579344, 4463788; 580057, 4465659; 580132, 4465813; 580184, 4465918; 580313, 4466064; 580839, 4466455; returning to 579328, 4466483.

* * * * *

(9) * * *

(i) Unit 5A excludes land bounded by 519133, 4304515; 519186, 4304513; 519190, 4304580; 519259, 4304536; 519575, 4304594; 519707, 4304515; 519882, 4304203; 519928, 4304160; 519924, 4304114; 519785, 4304012; 519729, 4303886; 519677, 4303975; 519634, 4303917; 519639, 4303693; 519840, 4303690; 519846, 4303903; 519925, 4303879; 519937, 4303781; 519975, 4303782; 519980, 4304504; 519952, 4304510; 519944, 4304600; 519130, 4304611; returning to 519133, 4304515.

* * * * *

Family Poaceae: Orcuttia viscida (Sacramento Orcutt grass)

* * * * *

Family Poaceae: Poa atropurpurea (San Bernardino bluegrass)

* * * * *

(12) * * *

(i) Unit 14 excludes land bounded by the following UTM NAD27 coordinates (E N): 550869, 3637877; 550892, 3637893; 550915, 3637910; 550939, 3637916; 550959, 3637913; 550973, 3637897; 550986, 3637895; 550983, 3637881; 550976, 3637859; 550982, 3637842; 551000, 3637820; 551017, 3637807; 551029, 3637784; 551025, 3637771; 551012, 3637769; 551011, 3637750; 551008, 3637732; 551000, 3637715; 550976, 3637723; 550955, 3637708; 550940, 3637686; 550937, 3637662; 550939, 3637658; 550948, 3637643; 550967, 3637618; 550989, 3637610; 550998, 3637595; 550987, 3637576; 550953, 3637556; 550924, 3637552; 550899, 3637554; 550882, 3637564; 550861, 3637549; 550854, 3637526; 550832, 3637523; 550793, 3637535; 550754, 3637564; 550724, 3637595; 550709, 3637624; 550686, 3637674; 550683, 3637707; 550710, 3637763; 550760, 3637826; 550800, 3637855; 550816, 3637865; 550845, 3637863; 550869, 3637877; and land bounded by 551248, 3637523; 551267, 3637518; 551283, 3637506; 551295, 3637484; 551295, 3637459; 551300, 3637428; 551303, 3637401; 551304, 3637378; 551291, 3637350; 551276, 3637341; 551265, 3637333; 551250, 3637339; 551231, 3637345; 551222, 3637325; 551208, 3637332; 551181, 3637346; 551166, 3637333; 551148, 3637324; 551131, 3637323; 551098, 3637329; 551080, 3637339; 551070, 3637355; 551074, 3637364; 551089, 3637352; 551111, 3637352; 551130, 3637365; 551148, 3637378; 551142, 3637405; 551144, 3637427; 551148, 3637460; 551158, 3637486; 551172, 3637492; 551194, 3637497; 551198, 3637512; 551215, 3637520; 551248, 3637523.

* * * * *

(13) * * *

(ii) Unit 15 for Poa atropurpurea is depicted on the map in paragraph (12)(ii) of this entry.

* * * * *

Family Poaceae: Tuctoria mucronata (Solano grass)

* * * * *

Family Poaceae: Zizania texana (Texas wild-rice)

* * * * *

NOTE: The map provided is for informational purposes only. Map follows:

* * * * *

Family Polygonaceae: Chorizanthe pungens var. pungens (Monterey spineflower)

* * * * *

(9) Unit 4: Asilomar Unit, Monterey County, California. Map of Unit 4 is provided at paragraph (8)(ii) of this entry.

(10) Unit 5: Freedom Boulevard Unit, Monterey County, California. Map of Unit 5 is provided at paragraph (6)(ii) of this entry.

(11) Unit 6: Manresa Unit, Monterey County, California. Map of Unit 6 is provided at paragraph (6)(ii) of this entry.

(12) Unit 7: Prunedale Unit, Monterey County, California. Map of Unit 7 is provided at paragraph (7)(ii) of this entry.

(13) Unit 8: Fort Ord Unit, Monterey County, California.

(i) From USGS 1:24,000 scale quadrangle Marina, Salinas, Seaside, and Spreckles. Unit 8 excludes land bounded by the following UTM zone 10 NAD83 coordinates (E, N):

(A) 609791, 4053559; 609792, 4053420; 609833, 4053395; 609908, 4053357; 610068, 4053380; 610032, 4053598; returning to 609791, 4053559.

(B) 611172, 4052992; 611242, 4052923; 611314, 4052987; 611402, 4052913; 611442, 4052907; 611524, 4052850; 611543, 4052844; 611587, 4052866; 611607, 4052919; 611628, 4053042; 611618, 4053074; 611670, 4053189; 611761, 4053277; 612029, 4053402; 612049, 4053521; 611863, 4053644; 611727, 4053518; 611656, 4053497; 611611, 4053451; 611535, 4053431; 611438, 4053400; 611394, 4053341; 611346, 4053238; 611278, 4053122; 611230, 4053068; returning to 611172, 4052992.

(C) 611476, 4056579; 611418, 4056559; 611437, 4056500; 611496, 4056520; returning to 611476, 4056579.

(ii) Map of Unit 8 is provided at paragraph (8)(ii) of this entry.

* * * * *

Family Polygonaceae: Chorizanthe robusta var. hartwegii (Scotts Valley spineflower)

(1) * * * The map provided is for informational purposes only.

* * * * *

Family Polygonaceae: Chorizanthe robusta var. robusta (robust spineflower)

(1) * * * The maps provided are for informational purposes only.

* * * * *

Family Polygonaceae: Eriogonum gypsophilum (gypsum wild buckwheat)

* * * * *

NOTE: The map provided is for informational purposes only. Map follows:

* * * * *

Family Polygonaceae: Eriogonum kennedyi var. austromontanum (Southern mountain wild-buckwheat)

(1) * * * The maps provided are for informational purposes only.

* * * * *

Family Polygonaceae: Eriogonum ovalifolium var. vineum (Cushenbury buckwheat)

(1) Critical habitat units are depicted for San Bernardino County, California, on the map below. The map provided is for informational purposes only.

* * * * *

Family Polygonaceae: Eriogonum pelinophilum (clay-loving wild-buckwheat)

* * * * *

NOTE: The map provided is for informational purposes only. Map follows:

* * * * *

Family Polygonaceae: Oxytheca parishii var. goodmaniana (Cushenbury oxytheca)

(1) Critical habitat units are depicted for San Bernardino County, California, on the map below. The map provided is for informational purposes only.

* * * * *

Family Polygonaceae: Polygonum hickmanii (Scotts Valley polygonum)

(1) * * * The map provided is for informational purposes only.

* * * * *

Family Ranunculaceae: Delphinium bakeri (Baker's larkspur)

(1) * * * The maps provided are for informational purposes only.

* * * * *

Family Ranunculaceae: Delphinium luteum (yellow larkspur)

(1) * * * The maps provided are for informational purposes only.

* * * * *

Family Rosaceae: Invesia kingii var. eremica (Ash Meadows invesia)

* * * * *

NOTE: The map provided is for informational purposes only. Map follows:

* * * * *

Family Scrophulariaceae: Castilleja campestris ssp. succulenta (fleshy owl's-clover)

* * * * *

Family Sterculiaceae: Fremontodendron mexicanum (Mexican flannelbush)

* * * * *

(5) * * *

(ii) Map of Subunits 1A and 1B follows:

* * * * *

Family Themidaceae: Brodiaea filifolia (thread-leaved brodiaea)

* * * * *

(15) * * *

(i) Unit 12 excludes land bounded by the following UTM NAD83 coordinates (E, N):

(A) 485555, 3652857; 485555, 3652822; 485572, 3652827; 485610, 3652827; 485613, 3652829; 485651, 3652882; 485667, 3652882; 485667, 3652899; 485556, 3652899; 485555, 3652857; and

(B) 485629, 3652710; 485749, 3652710; 485749, 3652807; 485746, 3652807; 485745, 3652820; 485744, 3652822; 485723, 3652822; 485717, 3652810; 485708, 3652806; 485690, 3652791; 485679, 3652788; 485671, 3652784; 485670, 3652780; 485665, 3652765; 485663, 3652761; 485649, 3652754; 485648, 3652750; 485635, 3652718; 485629, 3652710.

* * * * *

Martha Williams,
Principal Deputy Director, Exercising the Delegated Authority of the Director, U.S. Fish and Wildlife Service.

[FR Doc. 2021-15045 Filed 7-21-21; 8:45 am]

BILLING CODE 4333-15-P